DEPARTMENT OF THE INTERIOR

National Park Service

[N6821; NPS-WASO-NAGPRA-NPS0041642; PPWOCRADN0-PCU00RP14.R50000]

Notice of Intended Disposition: U.S. Department of the Interior, National Park Service, Yosemite National Park, Yosemite, CA

AGENCY: National Park Service, Interior.

ACTION: Notice.

SUMMARY: In accordance with the Native American Graves Protection and Repatriation Act (NAGPRA), the U.S. Department of the Interior, National Park Service, Yosemite National Park (YOSE) intends to carry out the disposition of human remains and associated funerary objects removed from Federal or Tribal lands to the lineal descendants, Indian Tribe, or Native Hawaiian organization with priority for disposition in this notice.

DATES: Disposition of the human remains and associated funerary objects in this notice may occur on or after January 20, 2026. If no claim for disposition is received by December 21, 2026, the human remains and associated funerary objects in this notice will become unclaimed human remains and associated funerary objects.

ADDRESSES: Send written claims for disposition of the human remains and associated funerary objects in this notice to Raymond McPadden, Superintendent, Yosemite National Park, 9039 Village Drive, Yosemite National Park, CA 95389, email yose_indian_liaison@nps.gov.

SUPPLEMENTARY INFORMATION: This notice is published as part of the National Park Service's administrative responsibilities under NAGPRA. The determinations in this notice are the sole responsibility of Superintendent, YOSE and additional information on the human remains and associated funerary objects in this notice, including the results of consultation, can be found in the related records. The National Park Service is not responsible for the identifications in this notice.

Abstract of Information Available

Based on the informational available, human remains representing, at least, one individual have been reasonably identified. The individual was discovered on March 31, 1995, by an archaeological monitor along the cutbank of the road between Rancheria Court and the water tank, close to a rock shelter site at CA-MRP-382. The human remains were then accessioned into the Yosemite National Park collections (YOSE-6108). No associated funerary objects are present.

Based on the information available, human remains representing, at least, one individual have been reasonably identified. The individual was discovered on June 24, 1997, by a camper within Yosemite National Park at Housekeeping camp. The individual later found in the park collections with a note detailing the information above but was never accessioned into the collections. No associated funerary objects are present.

In April 2014, human remains and associated funerary objects were removed from the Yosemite Village Site Complex (CA-MRP-056/H), during a subsurface survey (2014E). The intent of the survey was to further identify and characterize the area of potential effect for the rehabilitation of two buildings that comprise the Yosemite Valley Emergency Services Complex. Based on the information available, human remains representing, at least, 10 individuals have been reasonably identified. The 63 associated funerary objects are three lots light bulb fragments, three sherds of glass fragments, four lots of glass fragments, two lots of mixed metal, two wire nail fragments, seven lots of wire nail fragments, one lot of burned milled wood, one slightly charred milled wood fragment, two lots of milled wood, one electrical fuse, two lots of ceramic sewer pipe fragments, one whiteware ceramic sherd, one lot of obsidian and chert debitage, one lot of obsidian and volcanic debitage, 24 lots of obsidian debitage, three edge-modified obsidian fragments, one obsidian discoidal edge-modified fragment, one projectile point fragment, one granite manuport, one lot of obsidian biface fragments, and one rodent bone.

In January 2016, human remains and associated funerary objects were removed from the Yosemite Village Site Complex (CA-MRP-056/H), during a subsurface survey (2015E). The intent of the survey was to resolve an adverse effect to the site from rehabilitation of the Yosemite Valley Emergency Services Complex. Based on the information available, human remains representing, at least, 36 individuals have been reasonably identified. The 186 associated funerary objects are three glass pieces, one shell button fragment, four obsidian tinklers, one obsidian perforator, one granite manuport, one obsidian drill, two granite handstones, eight steatite vessel fragments, one granite cobble tool, three obsidian edge-modified pieces (oval scrapers), 42 obsidian edge-modified pieces, one lot of obsidian edge-modified piece fragments, three rose spring contracting stem projectile points, four rose spring corner notched points, one elko corner-notched projectile point, one large stemmed dart point, three stone cores, one obsidian exhausted core, seven obsidian biface fragments, two desert side-notched projectile points, two cottonwood triangular projectile points, one basalt biface fragment, 45 lots of obsidian debitage, three lots quartz debitage, one lot obsidian and quartz debitage, one lot of obsidian and chert debitage, six soil column samples, six light fraction soil samples, one unidentifiable bone micro fragment, one bone bead, three non-human tooth enamel fragments, one lot of non-human mammal bones, and 25 non-human faunal bones.

Determinations

YOSE has determined that:

• The human remains described in this notice represent the physical remains of 48 individuals of Native American ancestry.

• The 249 objects described in this notice are reasonably believed to have been placed intentionally with or near individual human remains at the time of death or later as part of the death rite or ceremony.

• The Bishop Paiute Tribe; Bridgeport Indian Colony; Northfork Rancheria of Mono Indians of California; Picayune Rancheria of Chukchansi Indians of California; and the Tuolumne Band of Me-Wuk Indians of the Tuolumne Rancheria of California have priority for disposition of the human remains and associated funerary objects described in this notice.

Claims for Disposition

Written claims for disposition of the human remains and associated funerary objects in this notice must be sent to the appropriate official identified in this notice under ADDRESSES. If no claim for disposition is received by December 21, 2026, the human remains and associated funerary objects in this notice will become unclaimed human remains or cultural items. Claims for disposition may be submitted by:

1. Any lineal descendant, Indian Tribe, or Native Hawaiian organization identified in this notice and, if joined to a claim for disposition from one or more of the Indian Tribes, the Southern Sierra Miwuk Nation and the Mono Lake Kootzaduka'a Tribe, non-federally recognized Indian groups.

2. Any lineal descendant, Indian Tribe, or Native Hawaiian organization not identified in this notice who shows, by a preponderance of the evidence, that they have priority for disposition.

Disposition of the human remains and associated funerary objects in this notice may occur on or after January 20, 2026. If competing claims for disposition are received, YOSE must determine the most appropriate claimant prior to disposition. Requests for joint disposition of the human remains and associated funerary objects are considered a single request and not competing requests. YOSE is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: December 11, 2025.
Melanie O'Brien,
Manager, National NAGPRA Program.

[FR Doc. 2025-23361 Filed 12-18-25; 8:45 am]

BILLING CODE 4312-52-P